DEPARTMENT OF DEFENSE

Office of the Secretary

[Docket ID: DOD-2009-OS-0083]

Privacy Act of 1974; System of Records

AGENCY: Defense Information Systems Agency, DoD.

ACTION: Notice to alter a System of Records.

SUMMARY: Defense Information Systems Agency proposes to alter a system of records notice in its existing inventory of records systems subject to the Privacy Act of 1974 (5 U.S.C. 552a), as amended.

DATES: This proposed action will be effective without further notice on July 16, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974 (5 U.S.C. 552a), as amended, have been published in the Federal Register and are available from the address above.

The proposed system reports, as required by 5 U.S.C. 552a(r), of the Privacy Act of 1974, as amended, were submitted on June 5, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: June 8, 2009.
Morgan E. Frazier,
Alternate OSD Federal Register Liaison Officer, Department of Defense.

K890.04

System Name:

Military Personnel Management/Assignment Files (February 22, 1993, 58 FR 10562).

Changes:

* * * * *

System location:

Delete entry and replace with “Military Personnel Division, MPS2, Headquarters, Defense Information Systems Agency, 701 S. Courthouse Rd., Arlington, Virginia 22204-4502.”

Categories of records in the system:

Delete entry and replace with “Individual's name, Social Security Number (SSN), address, phone number, rank, qualification records, duty status, special orders, assignment actions, personnel action requests, assignment history and eligibility, and military and civilian education history.”

* * * * *

Authority for maintenance of the system:

Delete entry and replace with “5 U.S.C. 301, Departmental Regulations; DoD Directive 5105.19, Defense Information Systems Agency (DISA) and E.O. 9397 (SSN).”

Purpose(s):

Delete entry and replace with “To assist officials and employees of Defense Information Systems Agency in the management, supervision, and administration of military personnel (officer and enlisted) assigned to the agency and in the operations of related personnel affairs and functions.”

* * * * *

Storage:

Delete entry and replace with “Paper records in file folders and electronic storage media.”

Retrievability:

Delete entry and replace with “Individual's name and Social Security Number (SSN)”

* * * * *

Retention and disposal:

Delete entry and replace with “Records are destroyed upon reassignment from DISA”.

System manager(s) and address:

Delete entry and replace with “Deputy Director for Personnel, MPS, Headquarters, Defense Information Systems Agency, 701 S. Courthouse Rd., Arlington, Virginia 22204-4502.”

Notification procedure:

Delete entry and replace with “Individuals seeking to determine whether information about themselves is contained in this system should address written inquiries to the Deputy Director for Personnel, MPS, Headquarters, Defense Information Systems Agency, 701 S. Courthouse Rd., Arlington, Virginia 22204-4502.

Requests should contain individual's name, current address, and phone number.

The requester may visit the Military Personnel Division, MPS2E, HQ, Defense Information Systems Agency, 701 S. Courthouse Rd., Arlington, VA 22204-4502. As proof of identity the requester will present their U.S. Armed Forces ID Card.”

Record access procedures:

Delete entry and replace with “Individuals seeking access to information about themselves contained in this system should address written inquiries to the Deputy Director for Personnel, MPS, Headquarters, Defense Information Systems Agency, 701 S. Courthouse Rd., Arlington, Virginia 22204-4502.

Requests should contain individual's name, rank, and Social Security (SSN).

The requester may visit the Military Personnel Division, MPS2E, HQ, Defense Information Systems Agency, 701 S. Courthouse Rd., Arlington, VA 22204-4502. As proof of identity the requester will present their U.S. Armed Forces ID Card.”

Contesting record procedures:

Delete entry and replace with “DISA's rules for accessing records, for contesting contents and appealing initial agency determinations are published in DISA Instruction 220-25-8; or may be obtained from the system manager.”

Record source categories:

Delete entry and replace with “Individual and military departments.”

* * * * *

K890.04

System name:

Military Personnel Management/Assignment Files.

System location:

Military Personnel Division, MPS2, Headquarters, Defense Information Systems Agency, 701 S. Courthouse Rd., Arlington, Virginia 22204-4502.

Categories of individuals covered by the system:

Records are maintained on military personnel of the Army, Air Force, Navy and Marine Corps currently assigned to the Defense Information Systems Agency.

Categories of records in the system:

Individual's name, Social Security Number (SSN), address, phone number, rank, qualification records, duty status, special orders, assignment actions, personnel action requests, assignment history and eligibility, and military and civilian education history.

Authority for maintenance of the system:

5 U.S.C. 301, Departmental Regulations; DoD Directive 5105.19, Defense Information Systems Agency (DISA) and E.O. 9397 (SSN).

Purpose(s):

To assist officials and employees of Defense Information Systems Agency in the management, supervision, and administration of military personnel (officer and enlisted) assigned to the agency and in the operations of related personnel affairs and functions.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The ‘Blanket Routine Uses’ set forth at the beginning of the DISA's compilation of systems of records notices apply to this system.

Policies and practices for storing, retrieving, accessing, retaining, and disposing of records in the system:

Storage:

Paper records in file folders and electronic storage media.

Retrievability:

Individual's name and Social Security Number (SSN).

Safeguards:

Building employs security guards. Records are maintained in area which is accessible only to authorized personnel who are properly screened, cleared, and their duties require them to be in the area where the records are maintained.

Retention and disposal:

Records are destroyed upon reassignment from DISA.

System manager(s) and address:

Deputy Director for Personnel, MPS, Headquarters, Defense Information Systems Agency, 701 S. Courthouse Rd., Arlington, Virginia 22204-4502.

Notification procedure:

Individuals seeking to determine whether information about themselves is contained in this system should address written inquiries to the Deputy Director for Personnel, MPS, Headquarters, Defense Information Systems Agency, 701 S. Courthouse Rd., Arlington, Virginia 22204-4502.

Requests should contain individual's name, current address, and phone number.

The requester may visit the Military Personnel Division, MPS2E, HQ, Defense Information Systems Agency, 701 S. Courthouse Rd., Arlington, VA 22204-4502. As proof of identity the requester will present their U.S. Armed Forces ID Card.

Record access procedures:

Individuals seeking access to information about themselves contained in this system should address written inquiries to the Deputy Director for Personnel, MPS, Headquarters, Defense Information Systems Agency, 701 S. Courthouse Rd., Arlington, Virginia 22204-4502.

Requests should contain individual's name, rank, and Social Security Number (SSN).

The requester may visit the Military Personnel Division, MPS2E, HQ, Defense Information Systems Agency, 701 S. Courthouse Rd., Arlington, VA 22204-4502. As proof of identity the requester will present their U.S. Armed Forces ID Card.

Contesting record procedures:

DISA's rules for accessing records, for contesting contents and appealing initial agency determinations are published in DISA Instruction 220-25-8; or may be obtained from the system manager.

Record source categories:

Individual and military departments.

Exemptions claimed for the system:

None.

[FR Doc. E9-14098 Filed 6-15-09; 8:45 am]

BILLING CODE 5001-06-P